DEPARTMENT OF LABOR

Mine Safety and Health Administration

[OMB Control No. 1219-0015]

Proposed Extension of Information Collection; Refuse Piles and Impoundment Structures, Recordkeeping and Reporting Requirements

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995, 44 U.S.C. 3506(c)(2)(A). This program helps to assure that requested data can be provided in the desired format, reporting burden (time and financial resources) is minimized, collection instruments are clearly understood, and the impact of collection requirements on respondents can be properly assessed. Currently, the Mine Safety and Health Administration (MSHA) is soliciting comments on the information collection for Refuse Piles and Impoundment Structures, Recordkeeping and Reporting Requirements.

DATES: All comments must be received on or before June 9, 2014.

ADDRESSES: Comments concerning the information collection requirements of this notice may be sent by any of the methods listed below.

• Federal E-Rulemaking Portal: http://www.regulations.gov. Follow the on-line instructions for submitting comments for docket number [MSHA-2013-0049].

• Regular Mail: Send comments to MSHA, Office of Standards, Regulations, and Variances, 1100 Wilson Boulevard, Room 2350, Arlington, VA 22209-3939.

• Hand Delivery: MSHA, 1100 Wilson Boulevard, Room 2350, Arlington, VA. Sign in at the receptionist's desk on the 21st floor.

FOR FURTHER INFORMATION CONTACT: Sheila McConnell, Acting Director, Office of Standards, Regulations, and Variances, MSHA, at MSHA.information.collections@dol.gov (email); 202-693-9440 (voice); or 202-693-9441 (facsimile).

SUPPLEMENTARY INFORMATION:

I. Background

Section 101(a) of the Federal Mine Safety and Health Act of 1977 (Mine Act), 30 U.S.C. 811(a), authorizes the Secretary to develop, promulgate, and revise as may be appropriate, improved mandatory health or safety standards for the protection of life and prevention of injuries in coal or other mines. Section 103(h) of the Mine Act, 30 U.S.C. 813(h), authorizes MSHA to collect information necessary to carry out its duty in protecting the safety and health of miners.

Title 30 CFR part 77, Subpart C, sets forth standards for surface installations. More specifically, the sections cited in the title of this supporting statement address refuse piles (30 CFR 77.215), and impoundments (30 CFR 77.216). Impoundments are structures that can impound water, sediment, or slurry or any combination of materials, and refuse piles are deposits of coal mine waste (other than overburden or spoil) that are removed during mining operations or separated from mined coal and deposited on the surface. The failure of these structures can have a devastating effect on a community. To avoid or minimize such disasters, MSHA has promulgated standards for the design, construction, and maintenance of these structures; for annual certifications; for certification for hazardous refuse piles; for the frequency of inspections; and the methods of abandonment for impoundments and impounding structures.

II. Desired Focus of Comments

MSHA is soliciting comments concerning the proposed information collection related to Refuse Piles and Impoundment Structures, Recordkeeping and Reporting Requirements. MSHA is particularly interested in comments that:

• Evaluate whether the collection of information is necessary for the proper performance of the functions of the agency, including whether the information has practical utility;

• Evaluate the accuracy of the MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

This information collection request is available on http://www.msha.gov/regs/fedreg/informationcollection/informationcollection.asp. The information collection request will be available on MSHA's Web site and on http://www.regulations.gov. MSHA cautions the commenter against providing any information in the submission that should not be publicly disclosed. Full comments, including personal information provided, will be made available on www.regulations.gov and www.reginfo.gov.

The public may also examine publicly available documents at MSHA, 1100 Wilson Boulevard, Room 2350, Arlington, VA. Sign in at the receptionist's desk on the 21st floor.

Questions about the information collection requirements may be directed to the person listed in the FOR FURTHER INFORMATION CONTACT section of this notice.

III. Current Actions

This request for collection of information contains provisions for Refuse Piles and Impoundment Structures, Recordkeeping and Reporting Requirements. MSHA has updated the data in respect to the number of respondents, responses, burden hours, and burden costs supporting this information collection request.

Type of Review: Extension, without change, of a currently approved collection.

Agency: Mine Safety and Health Administration.

OMB Number: 1219-0015.

Affected Public: Business or other for-profit.

Number of Respondents: 629.

Frequency: On occasion.

Number of Responses: 31,365.

Annual Burden Hours: 76,573 hours.

Annual Respondent or Recordkeeper Cost: $2,656,928.

Comments submitted in response to this notice will be summarized and included in the request for Office of Management and Budget approval of the information collection request; they will also become a matter of public record.

Dated: March 31, 2014.
Patricia W. Silvey,
Certifying Officer.

[FR Doc. 2014-07756 Filed 4-7-14; 8:45 am]

BILLING CODE 4510-43-P